DEPARTMENT OF COMMERCE

National Oceanic and Atmospheric Administration

[RTID 0648-XC286]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its American Samoa Fishery Archipelago Fishery Ecosystem Plan (FEP) Advisory Panel (AP), Mariana Archipelago FEP-Commonwealth of the Northern Mariana Islands (CNMI) AP, Mariana Archipelago FEP-Guam AP, Fishing Industry Advisory Committee (FIAC), and the Non-Commercial Fishing Advisory Committee (NCFAC) meetings to discuss and make recommendations on fishery management issues in the Western Pacific Region.

DATES: The meetings will be held between September 6 and September 8, 2022. For specific times and agendas, see SUPPLEMENTARY INFORMATION.

ADDRESSES: The meetings will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; phone: (808) 522-8220.

SUPPLEMENTARY INFORMATION: The FIAC will meet on Tuesday, September 6, 2022, from 2 p.m. to 5 p.m., the American Samoa Archipelago FEP AP will meet on Tuesday, September 6, 2022, from 5 p.m. to 8 p.m., the Mariana Archipelago FEP-CNMI AP will meet on Thursday, September 8, 2022, from 9 a.m. to 11 a.m., the Mariana Archipelago FEP-Guam AP will meet on Thursday September 8, 2022, from 6:30 p.m. to 10 p.m., and the NCFAC will meet on Thursday, September 8, 2022, from 1 p.m. to 4 p.m. All times listed are local island times except for the FIAC and NCFAC, which are in Hawaii Standard Time.

Public comment periods will be provided in the agendas. The order in which agenda items are addressed may change. The meetings will run as late as necessary to complete scheduled business.

Schedule and Agenda for the FIAC Meeting

Tuesday, September 6, 2022, From 2 p.m. to 5 p.m. (Hawaii Standard Time)

1. Welcome and Introductions

2. Status Report on Previous FIAC Recommendations

3. Roundtable update on Fishing/Market Issues/Impacts

4. Status of the Hawaii Deep-Set Longline and American Samoa Longline Biological Opinions

5. Alternatives for an Aquaculture Management Framework in the Western Pacific

6. Value of Tuna Cannery to American Samoa

7. Update on American Samoa Albacore Performance and Diversification

8. Pacific Remote Islands Coalition Proposal to Expand the Pacific Remote Islands Marine National Monument (PRIMNM)

9. Outcomes of Final Borders Beyond National Jurisdiction Session

10. June 2022 Permanent Advisory Committee to the Western and Central Pacific Fisheries Commission

11. National Seafood Strategy

12. Other Issues

13. Public Comment

14. Discussion and Recommendations

Schedule and Agenda for the American Samoa Archipelago FEP AP Meeting

Tuesday, September 6, 2022, From 5 p.m. to 8 p.m. (Samoa Standard Time)

1. Welcome and Introductions

2. Review of Last AP Meeting and Recommendations

3. American Samoa Fishery Issues and Activities

A. Alternatives for an Aquaculture Management Framework in the Western Pacific

B. Update on Draft American Samoa Longline Biological Opinion

C. American Samoa Large Vessel Prohibited Area Performance Review

D. Update on the Bottomfish Management Unit Species (BMUS) Revision

4. Pacific Remote Island Coalition Request to Expand the PRIMNM

5. 2022 AP Activities Plan

A. Sustainable Fishery Fund Projects

B. Education and Outreach

6. Feedback from the Fleet

A. Fishermen Observations

B. AP Issues

7. Public Comment

8. Discussion and Recommendations

9. Other Business

Schedule and Agenda for the Mariana Archipelago FEP-CNMI AP Meeting

Thursday, September 8, 2022, 9 a.m. to 11 a.m. (Chamorro Standard Time)

1. Welcome and Introductions

2. Review of Last AP Meeting and Recommendations

3. Feedback from the Fleet

A. CNMI Fishermen Observations

4. Advisory Panel Issues

5. CNMI Fishery Issues and Activities

A. Alternatives for an Aquaculture Management Framework in the Western Pacific

B. Pacific Remote Island Coalition Request to Expand the PRIMNM

C. Smart Fish Aggregating Device (FAD) Project Update

D. Report on Young Fishermen's Act

E. Report on Marianas Meetings and Update on the BMUS Revisions

F. Catchit Logit Updates

G. Sustainable Fishery Fund Projects Update

H. Updates on the Proposed Sanctuary Designation for the Marianas Trench Marine National Monument

I. Updates on the Proposed Rule for Coral Critical Habitat in the Marianas

6. 2022 AP Activities Plan

A. AP Outreach and Education

7. Public Comment

8. Discussion and Recommendations

9. Other Business

Schedule and Agenda for the Mariana Archipelago FEP-Guam AP Meeting

Thursday, September 8, 2022, 6:30 p.m. to 10 p.m. (Chamorro Standard Time)

1. Welcome and Introductions

2. Review of Last AP Meeting and Recommendations

3. Feedback from the Fleet

A. Fishermen Observations

B. AP Issues

4. Guam Fishery Issues and Activities

A. Alternatives for an Aquaculture Management Framework in the Western Pacific

B. Pacific Remote Islands Coalition Request to Expand the PRIMNM

C. Young Fishermen's Development Act

D. Report on Marianas Meetings and Update on the BMUS Revisions

E. Report on the National Marine Fisheries Service Equity and Environmental Justice Guam Meetings

F. Smart FAD Project Update

G. Catchit Logit Updates

H. AP Discussion

5. 2022 AP Activities

A. AP Outreach and Education

B. AP Discussion

6. Public Comment

7. Discussion and Recommendations

8. Other Business

Schedule and Agenda for the NCFAC Meeting

Thursday, September 8, 2022, 1 p.m. to 4 p.m. (Hawaii Standard Time)

1. Welcome and Introductions

2. Review of Last NCFAC Meeting and Recommendations

3. Fisheries Observations and Issues

A. Changes in the Fisheries This year to Date

B. Changes in the Ecosystem This Year to Date

4. Council Issues

A. Northwestern Hawaiian Islands Fishing Regulations

B. Hawaii Small Boat Fisheries

5. Non-Commercial Fisheries Discussion

A. Marine Recreational Information Program Regional Implementation Plan Discussion

B. NOAA Saltwater Recreational Fisheries Policy

C. Review of National Saltwater Recreational Fisheries Summit Agency Actions

6. Public Comment

7. Discussion and Recommendations

8. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: August 16, 2022.
Rey Israel Marquez,
Acting Deputy Director, Office of Sustainable Fisheries, National Marine Fisheries Service.

[FR Doc. 2022-17897 Filed 8-18-22; 8:45 am]

BILLING CODE 3510-22-P